DEPARTMENT OF COMMERCE

International Trade Administration

Notice of Scope Ruling Applications Filed in Antidumping and Countervailing Duty Proceedings

AGENCY: Enforcement and Compliance, International Trade Administration, Department of Commerce.

SUMMARY: The Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of December 2021.

DATES: Applicable January 18, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Notice of Scope Ruling Applications

In accordance with 19 CFR 351.225(d)(3), we are notifying the public of the following scope ruling applications related to AD and CVD orders and findings filed in or around the month of December 2021. This notification includes, for each scope application: (1) Identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) Identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Wood Mouldings and Millwork Products from the People's Republic of China (China) (A-570-117; C-570-118); Lengthwise sawn (LSW), scarf-jointed wood reveals and wood squares; ² produced and exported from China; submitted by Loveday Lumber Company, Inc.; December 14, 2021; ACCESS scope segments “Loveday Lumber.”

² Loveday Lumber's wood reveal strips are LWS wood products with scarf joints. The wood used to make the strips is of the Paulownia species. They come in mainly triangle forms and trapezoid forms.

Loveday Lumber's triangular wood reveals are known as edge form chamfers. They are scarf-jointed LWS wood products used for bracing, blocking, and/or temporary structural forming. A chamfer is “a corner beveled at a 45-degree angle and is created by placing a three-cornered piece of wood or other material, called a chamfer strip (or sometimes a cant strip) in the corner of the formwork.” The triangular wood reveals Loveday Lumber imports are of the following dimensions:

• ¾″ x ¾″ legs x 1 1/16″ hypotenuse;

• 1″ x 1″ legs x 1 7/16″ hypotenuse; and

• 1 1/16″ x 1 1/16 legs x 1½″ hypotenuse.

Loveday Lumber's trapezoid wood reveals have a trapezoid cross section. They come in the following dimensions:

• ½″ thick x 3″ base x 2″ top;

• ¾″ thick x 1¾″ base x ¾″ top;

• ¾″ thick x 2″ base x ½″ top;

• ¾″ thick x 2¼″ base x ¾″ top; and

• ¾″ thick x 3″ base x 1½″ top.

Loveday Lumber's wood squares are also LWS wood products with scarf joints. The wood used is of the Paulownia species. The wood squares are also called expansion joints. They come in several different sizes according to customers' needs, but a common configuration is ½″ x ½″ x 60″. All these lengthwise sawn wood products are scarf jointed. A scarf joint is “an end joint formed by joining with adhesive the ends of two pieces that have been tapered or beveled to for sloping plane surfaces, usually to a featheredge, and with the same slope of the plane in respect to the length in both pieces” whereas a finger joint is “an end joint made up of several meshing wedges or fingers of wood bonded together with an adhesive”. (See Tom Owens, Lab Notes: News from the Forest Products Laboratory, Forest Service, United States Department of Agriculture (Mar. 16, 2016), https://www.fpl.fs.fed.us/labnotes/?p=26179).

Certain Artist Canvas from China (A-570-899); HP Recycled Satin Canvas, which is formed from canvas woven in China from recycled Chinese 100% polyester yarn, primed (coated with gesso) in Thailand, and coated with alumina (an ink-receptive top coat) in China; ³ submitted by Brand Management Group, LLC; December 17, 2021; ACCESS scope segment “Print Canvas.”

³ Print canvas is formed from 300D/96F polyester woven fabric woven from 100% recycled polyester yarn. The polyester woven fabric is then primed (coated with gesso). Once the priming process is complete, the primed woven canvas is coated with alumina (an ink-receptive top coat). The ink-receptive alumina coating consists of a proprietary mixture. The alumina is a top coat applied over the layers of gesso.

The print canvas is described on the commercial invoice as HP Recycled Satin Canvas. The print canvas is a finished article of commerce known in the trade by multiple names including artist canvas, print canvas, pre-jet canvas, or base canvas (hereinafter “print canvas”). The print canvas was imported into United States as a finished roll in the dimensions of 60″ x 50″. Future shipments of the print canvas will be imported into the United States as master rolls in dimensions of 24″up to 73″ wide and 500 to 15,000 feet in length or as finished rolls in the following dimensions: 24″ x 50′, 36″ x 50′, 42″ x 0′, 44″ x 0′, 50″ x 50′, 54″ x 50′, 60″ x 50′, or any other widths and lengths.

Wooden Cabinets and Vanities and Components Thereof from China (A-570-106; C-570-107); Beverage Centers; ⁴ produced and exported in China; submitted by Disney; December 20, 2021; ACCESS scope segment “Disney Beverage Station and Centers.”

⁴ Walt Disney Parks & Resorts U.S., Inc.'s (Disney) beverage centers are made of plywood and plastic laminate. The ASM-109 and ASM-109A models include a powder coated metal frame. The beverage centers are designed to be free-standing pieces of furniture that are not designed for permanent installation. While they are designed to be free-standing, because of the risk of tip-over and height of the furniture, Disney uses a cable on the centers to affix them to the wall of the hotel room.

Wooden Bedroom Furniture from China (A-570-890); Closet Systems; ⁵ produced and exported in China; submitted by Disney; December 21, 2021; ACCESS scope segment “Disney Wardrobe-Beverage Station.”

⁵ Disney's closet systems are made of plywood and plastic laminate and consist of an open wooden box frame with shelving for use as storage in hotel rooms. The closet systems do not contain any drawers or doors.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day-day 31.⁶ Commerce's practice generally dictates that where a deadline falls on a weekend, Federal holiday, or other non-business day, the appropriate deadline is the next business day.⁷ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁸

⁶ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁷ See Notice of Clarification: Application of “Next Business Day” Rule for Administrative Determination Deadlines Pursuant to the Tariff Act of 1930, As Amended, 70 FR 24533 (May 10, 2005).

⁸ This structure maintains the intent of the applicable regulation, 19 CFR 351.225(d)(1), to allow a day of separation between day 30 and day 31.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁹

⁹ Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: January 12, 2022.
James Maeder,
Deputy Assistant Secretary for Antidumping and Countervailing Duty Operations.

[FR Doc. 2022-00847 Filed 1-14-22; 8:45 am]

BILLING CODE 3510-DS-P